DEPARTMENT OF HEALTH AND HUMAN SERVICES

Centers for Disease Control and Prevention

Delegation of Authority; Public Health Service Act

AGENCY: Centers for Disease Control and Prevention (CDC), the Department of Health and Human Services.

ACTION: Notice.

This notice announces the delegation of authority to the Head of Contracting Activity, Director Office of Acquisition Services, CDC. CDC has delegated the authority under section 305(e) of the Public Health Service Act (42 U.S.C. 242c), as amended, to (1) enter into transactions other than a contract, grant, or cooperative agreement for purposes of infectious disease research, bio-surveillance, infectious disease modeling, and public health preparedness and response for CDC. This includes the authority to award, modify, administer, and terminate other transactions; and (2) with respect to a project that is expected to cost more than $40,000,000, any delegated or redelegated authority under item (1) above to the Head of the Contracting Activity may only be exercised upon a written determination by the Assistant Secretary for Financial Resources, that the use of such authority is essential to promoting the success of the project. The authority of the Assistant Secretary for Financial Resources under section 305(e)(2) of the Act (42 U.S.C. 242c(e)(2)) as amended, may not be delegated. This authority may be redelegated unless redelegation is otherwise prohibited by law, regulation, other delegation, or policy.

DATES: This delegation was approved by the Director of CDC and became effective September 16, 2024.

FOR FURTHER INFORMATION CONTACT: Samantha Harrykissoon, Office of Policy, Performance, and Communication, Office of Financial Resources, Centers for Disease Control and Prevention, 4770 Buford Hwy., MS S102-1, Atlanta, GA 30341. Telephone 770-488-2514; Email: ofrpolicy@cdc.gov.

Robin D. Bailey,
Chief Operating Officer, Centers for Disease Control and Prevention.

[FR Doc. 2024-21788 Filed 9-24-24; 8:45 am]

BILLING CODE 4163-18-P